DEPARTMENT OF THE INTERIOR

Fish and Wildlife Service

[FWS-R7-ES-2009-N0076; 70120-1113-0000-C4]

Endangered and Threatened Wildlife and Plants; Short-Tailed Albatross (Phoebastria albatrus): Initiation of 5-Year Status Review; Availability of Final Recovery Plan

AGENCY: Fish and Wildlife Service, Interior.

ACTION: Notice of availability of final recovery plan; initiation of 5-year status review and request for information.

SUMMARY: We, the U.S. Fish and Wildlife Service (Service), announce the availability of our final recovery plan for and the initiation of a 5-year status review for the short-tailed albatross (Phoebastria albatrus), a bird species listed as endangered under the Endangered Species Act of 1973, as amended (Act). Our recovery plan describes the status, current management, recovery objectives and criteria, and specific actions needed to enable us to reclassify the short-tailed albatross from endangered to threatened, or from threatened to delisted. It also includes criteria that would justify reclassifying the species from threatened back to endangered. We conduct 5-year reviews to ensure that our classification of each species as threatened or endangered on the List of Endangered and Threatened Wildlife and Plants is accurate. We request any new information on this species that may have a bearing on its classification as endangered. Based on the results of this 5-year review, we will make a finding on whether this species is properly classified under the Act.

DATES: To allow us adequate time to conduct our 5-year review, we are requesting that you submit your information no later than July 20, 2009. However, we accept new information about any listed species at any time.

ADDRESSES: For instructions on how to submit information as well as the information that we receive for our 5-year review, see “Request for New Information.” To obtain a copy of our recovery plan, see “Contacts.”

FOR FURTHER INFORMATION CONTACT: Greg Balogh, Endangered Species Branch Chief, at the above address or by phone at (907) 271-2778.

SUPPLEMENTARY INFORMATION:

I. Background

We originally listed the short-tailed albatross (Phoebastria albatrus) in 1970 (35 FR 8491), under the then-Endangered Species Conservation Act of 1969, before passage of today's Act (16 U.S.C. 1531 et seq.). However, as a result of an administrative error (and not from any biological evaluation of status), we listed the species as endangered throughout its range, except within the United States (50 CFR 17.11). On July 31, 2000, we corrected this error when we published a final rule listing the short-tailed albatross as endangered throughout its range (65 FR 46643). This listing was effective August 30, 2000. For description, taxonomy, distribution, status, breeding biology and habitat, and a summary of factors affecting the species, please see the final listing rule. In that rule, we also determined designation of critical habitat to be not prudent because, among other reasons, we could not find habitat-related threats to the species within U.S. territory.

The species occurs in waters throughout the North Pacific, primarily along the east coast of Japan and Russia, in the Gulf of Alaska, along the Aleutian Islands and in the Gulf of Alaska south of 64° north latitude. At the time of our 2000 final listing rule, the short-tailed albatross population consisted of about 1,200 individuals known to breed on two islands: Torishima, an active volcanic island in Japan, and Minami-Kojima, an island whose ownership is under dispute by Japan, China, and Taiwan.

The severe decline in short-tailed albatross was caused by overexploitation for its feathers prior to and following the turn of the 20th century. This threat no longer exists, but its effect lingers. The species is thought to have once numbered 5 million individuals, but birds were harvested until only a few dozen remained. Numbering about 2,400 individuals in 2008, the short-tailed albatross is currently threatened by volcanic activity, extreme weather, small population size, a limited number of breeding sites, contamination by oil and other pollutants, and commercial fishery bycatch. Key recommendations for immediate action, as described in the recovery plan, are: (1) Formation of new breeding colonies at safe locations on Torishima and in the Bonin Islands; (2) stabilization of existing breeding habitat on Torishima Island; and (3) reduction of seabird bycatch in all North Pacific fisheries that may take this species.

II. Availability of Final Recovery Plan

A. Background

Recovery of endangered or threatened animals and plants to the point where they are again secure, self-sustaining members of their ecosystems is a primary goal of our endangered species program. To help guide the recovery effort, we are working to prepare recovery plans for most listed species native to the United States. Recovery plans describe actions considered necessary for the conservation and survival of the species, establish criteria for reclassifying or delisting listed species, and estimate time and cost for implementing needed recovery measures.

The Act requires us to develop recovery plans for listed species, unless such a plan would not promote the conservation of a particular species. Section 4(f) of the Act requires us to provide public notice and an opportunity for public review and comment during recovery plan development. We made our draft recovery plan for the short-tailed albatross available for public comment from October 27 through December 27, 2005 (70 FR 61988). We considered information we received during this comment period, along with information we received from five peer reviewers and the Government of Japan, in our preparation of our final recovery plan. The Short-tailed Albatross Recovery Team has taken into account these comments in redrafting the recovery plan and in revising and justifying the new recovery criteria we set forth in this final plan.

B. Recovery Criteria

The short-tailed albatross may be reclassified from endangered to threatened under the following conditions: The total breeding population of short-tailed albatross reaches a minimum of 750 pairs; and At least three breeding colonies each exhibiting a 3-year running average growth rate of greater than or equal to 6 percent for greater than or equal to 7 years, at least two of which occupy island groups other than Torishima with a minimum of greater than or equal to 50 breeding pairs each.

III. Initiation of 5-Year Status Review

A. Why Do We Conduct a 5-Year Review?

Under the Act (16 U.S.C. 1531 et seq.), we maintain a List of Endangered and Threatened Wildlife and Plants (List) in the Code of Federal Regulations (CFR) at 50 CFR 17.11 (for animals) and 17.12 (for plants). An informational copy of the List, which covers all listed species, is also available on our Internet site at http://endangered.fws.gov/wildlife.html#Species. Section 4(c)(2)(A) of the Act requires us to review the status of each listed species at least once every 5 years. Then, based on such review, under section 4(c)(2)(B), we determine whether any species should be removed from the List (delisted), reclassified from endangered to threatened, or reclassified from threatened to endangered. Any change in Federal classification requires a separate rulemaking process.

Our regulations in 50 CFR 424.21 require that we publish a notice in the Federal Register announcing the species we are reviewing. This notice announces our active 5-year status review of the endangered short-tailed albatross.

B. What Information Do We Consider in Our Review?

We consider all new information available at the time we conduct our review. We consider the best scientific and commercial data that have become available since our current listing determination or most recent status review of the species, such as:

A. Species biology, including but not limited to population trends, distribution, abundance, demographics, and genetics;

B. Habitat conditions, including but not limited to amount, distribution, and suitability;

C. Conservation measures that have been implemented that benefit the species;

D. Threat status and trends (see five factors under heading “How Do We Determine Whether a Species is Endangered or Threatened?”); and

E. Other new information, data, or corrections, including but not limited to taxonomic or nomenclatural changes, identification of erroneous information contained in the List, and improved analytical methods.

C. How Do We Determine Whether a Species Is Endangered or Threatened?

Section 4(a)(1) of the Act requires that we determine whether a species is endangered or threatened based on one or more of the five following factors:

A. The present or threatened destruction, modification, or curtailment of its habitat or range;

B. Overutilization for commercial, recreational, scientific, or educational purposes;

C. Disease or predation;

D. The inadequacy of existing regulatory mechanisms; or

E. Other natural or manmade factors affecting its continued existence.

Under section 4(b)(1) of the Act, we are required to base our assessment of these factors solely on the best scientific and commercial data available.

D. What Could Happen as a Result of Our Review?

For each species we review, if we find new information indicating a change in classification may be warranted, we may propose a new rule that could do one of the following:

A. Reclassify the species from threatened to endangered (uplist);

B. Reclassify the species from endangered to threatened (downlist); or

C. Remove the species from the List (delist).

If we determine that a change in classification is not warranted, then the species remains on the List under its current status.

We must support any delisting by the best scientific and commercial data available, and only consider delisting if such data substantiate that the species is neither endangered nor threatened for one or more of the following reasons:

A. The species is considered extinct;

B. The species is considered to be recovered; and/or

C. The original data available when the species was listed, or the interpretation of such data, were in error (50 CFR 424.11(d)).

E. Request for New Information

To ensure that a 5-year review is complete and based on the best available scientific and commercial information, we request new information from the public, governmental agencies, Tribes, the scientific community, environmental entities, industry, and any other interested parties concerning the status of the species.

See “What Information Do We Consider in Our Review?” for specific criteria. If you submit information, support it with documentation such as maps, bibliographic references, methods used to gather and analyze the data, and/or copies of any pertinent publications, reports, or letters by knowledgeable sources.

Submit your comments and materials to office listed under “Contacts.”

F. Public Availability of Comments

Before including your address, phone number, e-mail address, or other personal identifying information in your comment, you should be aware that your entire comment—including your personal identifying information—may be made publicly available at any time. While you can ask us in your comment to withhold your personal identifying information from public review, we cannot guarantee that we will be able to do so. Comments and materials received will be available for public inspection, by appointment, during normal business hours at the offices where we receive comments.

IV. Contacts

Submit your comments and information on this species, as well as any request for information or for a copy of the final recovery plan, by any one of the following methods. You may also view information and comments we receive in response to this notice, as well as other documentation in our files, at the following locations by appointment, during normal business hours.

E-mail: greg_balogh@fws.gov; Use “Short-tailed albatross” as the message subject line.

Fax: Attn: Greg Balogh, (907) 271-2786.

U.S. mail: Greg Balogh, U.S. Fish and Wildlife Service, Anchorage Fish and Wildlife Field Office, 605 W. 4th Ave., Rm G-61, Anchorage, AK 99501.

In-Person Drop-off or Document review/pickup: You may drop off comments and information, review/obtain documents, or view received comments during regular business hours at the above address.

Internet: You may obtain a copy of the recovery plan on the Internet at http://endangered.fws.gov/recovery/index.html#plans.

V. Definitions

(A) Species includes any species or subspecies of fish, wildlife, or plant, and any distinct population segment of any species of vertebrate, which interbreeds when mature;

(B) Endangered means any species that is in danger of extinction throughout all or a significant portion of its range; and

(C) Threatened means any species that is likely to become an endangered species within the foreseeable future throughout all or a significant portion of its range.

VI. Authority

We release our final recovery plan under section 4(f) of the Act, 16 U.S.C. 1533(f). We publish this notice under the authority of the Endangered Species Act of 1973, as amended (16 U.S.C. 1531 et seq.).

Dated: March 30, 2009.
Gary Edwards,
Acting Regional Director, Region 7, U.S. Fish and Wildlife Service.

[FR Doc. E9-11700 Filed 5-19-09; 8:45 am]

BILLING CODE 4310-55-P